DEPARTMENT OF COMMERCE

International Trade Administration

[A-570-848]

Freshwater Crawfish Tail Meat From the People's Republic of China: Extension of Time Limit for Final Results of Administrative Antidumping Review

AGENCY: Import Administration, International Trade Administration, Department of Commerce.

SUMMARY: The Department of Commerce (the Department) is extending the time limit of the final results of the administrative review of the antidumping duty order on freshwater crawfish tail meat from the People's Republic of China until no later than April 14, 2003. The period of review is September 1, 2000, through August 31, 2001. This extension is made pursuant to section 751(a)(3)(A) of the Tariff Act of 1930, as amended.

EFFECTIVE DATE: February 13, 2003.

FOR FURTHER INFORMATION CONTACT: Eli Blum-Page or Maureen Flannery, Import Administration, International Trade Administration, U.S. Department of Commerce, 14th Street and Constitution Avenue, NW., Washington, DC 20230; telephone: (202) 482-0197 and (202) 482-3020, respectively.

Statutory Time Limits

Section 751(a)(3)(A) of the tariff Act of 1930 (the Act) requires the Department to issue the preliminary results of an administrative review within 245 days after the last day of the anniversary month of an order for which a review is requested, and final results within 120 days after the date on which the preliminary results are published. However, if it is not practicable to complete the review within the prescribed time period, section 751(a)(3)(A) of the Act allows the Department to extend these deadlines to a maximum of 365 and 180 days, respectively.

Background

Based on timely requests from petitioner and two respondent companies, the Department initiated an administrative review of the antidumping duty order on freshwater crawfish tail meat from the People's Republic of China, for the period of September 1, 200, through August 31, 2001. See Initiation of Antidumping and Countervailing Duty Administrative Reviews and Requests for Revocation in Part, 66 FR 54195 (October 26, 2001).

On May 28, 2002, the Department published an extension of time limits for the preliminary results of this administrative review. See Notice of Extension of Time Limit of Preliminary Results of Antidumping Duty Administrative Review: Freshwater Crawfish Tail Meat from the People's Republic of China, 67 FR 36856. Following this extension, the preliminary results were issued on September 30, 2002. See Freshwater Crawfish Tail Meat from the People's Republic of China: Notice of Preliminary Results of Antidumping Duty Administrative Review, 67 FR 63877 (October 16, 2002).

Extension of Time Limits for Final Results

This case involves complex issues, including affiliation and the application of facts available. As such, the Department finds that is not practicable to complete this review within the time limits mandated by section 751(a)(3)(A) of the Act and 19 CFR 351.213(h)(1). Therefore, in accordance with sections 751(a)(3)(A) of the Act and 19 CFR 351.213(h)(2), the Department is extending the time limit for the completion of these final results to 180 days from the date of publication of the preliminary results. These final results will now be due no later than April 14, 2003.

This notice is published pursuant to sections 751(a)(1) and 777(i)(1) of the Act.

Dated: February 7, 2003.
Joseph A. Spetrini,
Deputy Assistant Secretary for Import Administration, Group III.

[FR Doc. 03-3517 Filed 2-12-03; 8:45 am]

BILLING CODE 3510-DS-Mt